DEPARTMENT OF EDUCATION

Applications for New Awards; Technical Assistance on State Data Collection—IDEA Data Management Center

AGENCY: Office of Special Education and Rehabilitative Services, Department of Education.

ACTION: Notice.

SUMMARY: The Department of Education (Department) is issuing a notice inviting applications for new awards for fiscal year (FY) 2025 for a Technical Assistance on State Data Collection—IDEA Data Management Center.

DATES:

Applications Available: June 25, 2025.

Deadline for Transmittal of Applications: July 25, 2025.

Deadline for Intergovernmental Review: August 25, 2025.

ADDRESSES: For the addresses for obtaining and submitting an application, please refer to our Common Instructions for Applicants to Department of Education Discretionary Grant Programs, published in the Federal Register on December 23, 2024 (89 FR 104528) and available at www.federalregister.gov/documents/2024/12/23/2024-30488/common-instructions-for-applicants-to-department-of-education-discretionary-grant-programs.

FOR FURTHER INFORMATION CONTACT: Amy Bae, U.S. Department of Education, 400 Maryland Avenue SW, Room 4A224, Washington, DC 20202. Telephone: (202) 987-1557. Email: Amy.Bae@ed.gov.

If you are deaf, hard of hearing, or have a speech disability and wish to access telecommunications relay services, please dial 7-1-1.

SUPPLEMENTARY INFORMATION:

Full Text of Announcement

I. Funding Opportunity Description

Purpose of Program: The purpose of the Technical Assistance on State Data Collection program is to improve the capacity of States to meet the Individuals with Disabilities Education Act (IDEA) data collection and reporting requirements. Funding for the program is authorized under section 611(c)(1) of IDEA, which provides the Secretary with the authority to reserve not more than one-half of one percent of the amounts appropriated under Part B for each fiscal year to provide technical assistance (TA) activities authorized under section 616(i), where needed, to improve the capacity of States to meet the data collection and reporting requirements under Parts B and C of IDEA. The maximum amount the Secretary may reserve under this set-aside for fiscal year 2025 is $42,657,297, cumulatively adjusted by the rate of inflation. For fiscal year 2025 the Secretary plans to reserve $27,500,000. Section 616(i) of IDEA requires the Secretary to review the data collection and analysis capacity of States to ensure that data and information determined necessary for implementation of sections 616 and 642 of IDEA are collected, analyzed, and accurately reported to the Secretary. It also requires the Secretary to provide TA, where needed, to improve the capacity of States to meet the data collection requirements, which include the data collection and reporting requirements in sections 616 and 618 of IDEA. In addition, the Further Consolidated Appropriations Act, 2024, Public Law 118-47, Division D, Title III, 138 Stat. 460, 685 gives the Secretary authority to use funds reserved under section 611(c) of IDEA to “administer and carry out other services and activities to improve data collection, coordination, quality, and use under Parts B and C of the IDEA.”

Assistance Listing Number (ALN): 84.373M.

OMB Control Number: 1820-0028.

Priority: This competition includes one priority. This priority is from the notice of final priority (NFP) for this program published elsewhere in this issue of the Federal Register.

Absolute Priority: For FY 2025 and any subsequent year in which we make awards from the list of unfunded applications from this competition, this priority is an absolute priority. Under 34 CFR 75.105(c)(3), we consider only applications that meet this priority.

This priority is:

IDEA Data Management Center.

Background:

The Department prioritizes supporting States in meeting the requirements of IDEA to collect, report, analyze, and use high-quality IDEA data (including data reported under IDEA sections 616, 618, and 642), and assisting them in meeting their needs to enhance, streamline, and integrate IDEA data into other data systems such as their State longitudinal data systems (SLDS) and early childhood integrated data systems (ECIDS). States have identified several benefits to having more integrated data systems including, more standardized and streamlined data collection and reporting across programs serving children; better tracking of child level outcomes in areas such as math, literacy, and science; better tracking of system level outcomes such as developmental screening and referral; and more support for program improvement. Data integration across systems allows States to provide administrators, parents, and policymakers more accurate and comprehensive data to evaluate and improve special education and early intervention programs and services.

While States have recognized the benefits of data integration, despite some progress over the past decade, many States indicate that they still struggle to link IDEA data into K-12 and early childhood data systems often because they do not have the expertise, resources, or staffing to develop integrated data systems. States have requested TA to support stronger linkages between SLDS and ECIDS as a way to better respond to IDEA reporting requirements and improve coordination and access to actionable data that they can use to better evaluate program effectiveness, guide policy decisions, refine instructional and intervention strategies, and provide parents with the information they need to support their children's educational and developmental progress.

Priority:

The purpose of this priority is to fund a cooperative agreement to establish and operate an IDEA Data Management Center (Data Management Center). The Data Management Center will respond to State needs as States determine whether and how to coordinate and integrate their IDEA Part B and Part C data required to meet the data collection requirements in sections 616 and 618 of IDEA into their longitudinal data systems (including SLDS and ECIDS) while ensuring applicable IDEA and Family Educational Rights and Privacy Act (FERPA) privacy protections are met. This integration will improve the capacity of States to collect, report, analyze, and use high-quality IDEA Part B and Part C data to establish and meet high expectations for each child with a disability. The Data Management Center will help States address challenges with data management procedures and data systems architecture and better meet current and future IDEA Part B and Part C data collection and reporting requirements. The Data Management Center's work will comply with the privacy and confidentiality protections under IDEA and FERPA. The Data Management Center will not provide the Department with access to child-level data and will further ensure that such data is de-identified, as defined in 34 CFR 99.31(b)(1).

The Data Management Center must be designed to achieve, at a minimum, the following expected outcomes:

(a) Increased capacity of States to use interagency agreements or other mechanisms to coordinate and integrate IDEA Part B and IDEA Part C data required under sections 616 and 618 of IDEA within their SLDS while meeting the applicable privacy requirements under Parts B and C of the IDEA and FERPA (which may include developing or disseminating TA resources on privacy, interagency agreements on data sharing and/or data coordination, and integration);

(b) Increased use of IDEA Part B and IDEA Part C data within States by developing products to allow States to report their special education, preschool special education, and early intervention data to various partners (e.g., other State agencies, policymakers, school and early care and education program personnel, local and State school boards, local educational agency (LEA) administrators, early care and education childhood administrators, researchers, charter school authorizers, parents and advocates, Indian Tribes, and Tribal organizations) through their longitudinal data systems;

(c) Increased number of States that use data governance and data management procedures to increase their capacity to meet the IDEA Part B and IDEA Part C reporting requirements under sections 616 and 618 of IDEA;

(d) Increased capacity of States to utilize their SLDS and ECIDS to collect, report, analyze, and use high-quality IDEA Part B and IDEA Part C data (including data required under sections 616, 618, and 642 of IDEA);

(e) Increased capacity of States to use their SLDS and ECIDS to analyze high-quality data on the participation and outcomes of children with disabilities who receive services under IDEA and under Title I of the Elementary and Secondary Education Act of 1965, as amended (ESEA), to improve IDEA and ESEA programs and the outcomes of children with disabilities; and

(f) Increased capacity of States to coordinate and use available IDEA Part C early intervention data with IDEA Part B preschool special education data (and to integrate or link such data with ECIDS, if applicable) to analyze high-quality data on the participation and outcomes of infants, toddlers, and children with disabilities served under IDEA who may also participate in other programs and services (e.g., child care, Early Head Start, Head Start, publicly funded preschool, and home visiting programs).

In addition to these programmatic requirements, to be considered for funding under this priority, applicants must meet the application and administrative requirements in this priority, which are:

(a) Describe, in the narrative section of the application under “Significance,” how the proposed project will—

(1) Address State challenges associated with State data management procedures, data systems architecture, and building EDFacts data files and reports for timely reporting of the IDEA Part B and IDEA Part C data to the Department and the public. To meet this requirement the applicant must—

(i) Present applicable national, State, or local data demonstrating the difficulties that States have encountered in the collection and submission of valid and reliable IDEA Part B and IDEA Part C data;

(ii) Demonstrate knowledge of current educational and technical issues and policy initiatives relating to IDEA Part B data and IDEA Part C collections and EDFacts file specifications for the IDEA Part B and IDEA Part C data collections; and

(iii) Present information about the current level of implementation of integrating IDEA Part B data within SLDS and IDEA Part C and IDEA Part B preschool special education data within ECIDs, and the reporting of high-quality IDEA Part B and IDEA Part C data to the Department and the public.

(b) Describe, in the narrative section of the application under “Quality of the project design,” how the proposed project will—

(1) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

(2) Use a conceptual framework (and provide a copy in Appendix A) to develop project plans and activities, describing any underlying concepts, assumptions, expectations, beliefs, or theories, as well as the presumed relationships or linkages among these variables, and any empirical support for this framework.

Note: The following website provides more information on logic models and conceptual frameworks: https://ies.ed.gov/ncee/rel/Products/Region/central/Resource/100644.

(3) Be based on current research and make use of evidence-based ¹ practices (EBPs). To meet this requirement, the applicant must describe—

¹ For the purposes of these requirements, “evidence-based” means the proposed project component is supported by one or more of strong evidence, moderate evidence, promising evidence, or evidence that demonstrates a rationale (as such terms are defined in 34 CFR 77.1).

(i) The current research on data collection strategies, data management procedures, and data systems architecture; and

(ii) How the proposed project will incorporate current research and EBPs in the development and delivery of its products and services;

(4) Develop products and provide services that are of high quality and sufficient intensity and duration to achieve the intended outcomes of the proposed project. To address this requirement, the applicant must describe—

(i) How it proposes to identify or develop the knowledge base on States' data management processes and data systems architecture;

(ii) A plan to provide a range of products and services to—

(A) Improve States' capacity to report high-quality IDEA Part B and Part C data required under sections 616, 618, and 642 of IDEA through their SLDS and other applicable data systems; and

(B) Improve States' capacity to link and integrate (where determined appropriate by States) their IDEA Part C early intervention and IDEA Part B preschool special education data with data/data systems associated with other Federal programs and services that support infants, toddlers, and young children and their families in order to report high-quality IDEA Part C data and IDEA Part B preschool special education data required under sections 616 and 618 of IDEA. The plan must include, at a minimum, how the project will—

(1) In Years 1 through 5—

(i) Support, in partnership with the Department, the implementation of an existing open-source electronic tool to assist States in building EDFacts data files and reports that can be submitted to the Department and made available to the public. The tool must utilize Common Education Data Standards (CEDS) and meet all States' needs associated with reporting the IDEA Part B and Part C data required under sections 616, 618, and 642 of IDEA;

(ii) Provide maintenance to support the appropriate functionality of the open-source electronic tool as changes are made to data collections, reporting requirements, file specifications, and CEDS (such as links within the system to include TA products developed by other Office of Special Education Programs (OSEP) and Department-funded centers or contractors);

(iii) Provide TA focused on data governance to facilitate the use of the open-source electronic tool and training to State staff to implement the open-source electronic tool;

(iv) Revise the CEDS “Connections” to calculate metrics needed to report the IDEA Part B and Part C data required under sections 616 and 618 of IDEA;

(v) Develop other outputs (e.g., reports, Application Programming Interface, new innovations) of an open-source electronic tool that can support reporting by States of IDEA Part B data to different partner groups (e.g., LEAs, charter schools, legislative branch, parents);

(vi) Implement strategies to support the inclusion of other OSEP and Department-funded TA centers' products within the open-source electronic tool or build connections that allow the SEAs to pull IDEA Part B data efficiently into the other TA products;

(vii) Support a user group of States that are using an open-source electronic tool for reporting IDEA Part B data required under sections 616 and 618 of IDEA; and

(viii) Develop products and presentations that include tools and solutions to challenges in data management procedures and data system architecture for reporting the IDEA Part B and Part C data required under sections 616 and 618 of IDEA;

(2) In Years 2 through 5—

(i) Develop, in partnership with the Department, an open-source electronic tool to assist States with linking and integrating their IDEA Part C early intervention and IDEA Part B preschool special education data with other data/data systems associated with other Federal programs and services that support infants, toddlers, and young children and their families, in order to provide high-quality reporting of the IDEA Part C data and IDEA Part B preschool special education data required under sections 616 and 618 of IDEA; drive program improvement; improve results for children with disabilities; and improve compliance accountability. The tool must utilize CEDS and meet States' needs associated with linking or integrating their Part C early intervention and Part B preschool special education data with other data/data systems associated with other Federal programs that support infants, toddlers, and young children and their families;

(ii) Develop the CEDS “Connections” to ensure the electronic tool is built for States to conduct analyses related to reporting the IDEA Part C data and IDEA Part B preschool special education data required under sections 616 and 618 of IDEA, driving program improvement, improving results for children with disabilities and their families, and improving compliance accountability;

(iii) Provide maintenance to support the appropriate functionality of the open-source electronic tool as changes are made to data reporting requirements and CEDS;

(iv) Provide TA on data governance to facilitate the use of the open-source electronic tool and training to State staff to implement the open-source electronic tool; and

(v) Support a user group of States that are using an open-source electronic tool for reporting the IDEA Part C data and IDEA Part B preschool special education data required under sections 616, 618, and 642 of IDEA;

(iii) Its proposed approach to universal, general TA,² which must identify the intended recipients, including the type and number of recipients, that will receive the products and services, a description of the products and services that the Center proposes to make available, and the expected impact of those products and services under this approach;

² “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iv) Its proposed approach to targeted, specialized TA,³ which must identify—

³ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of the products and services that the Center proposes to make available, and the expected impact of those products and services under this approach; and

(B) Its proposed approach to measure the readiness of potential TA recipients to work with the project, assessing, at a minimum, their current infrastructure, available resources, and ability to build capacity at the local level; and

(C) The process by which the proposed project will collaborate with Department-funded centers (including TA centers such as the DaSy Center that provides Department-funded TA on early childhood data privacy, and the Privacy Technical Assistance Center) and other federally funded TA centers to develop and implement a coordinated TA plan when they are involved in a State;

(v) Its proposed approach to intensive, sustained TA,⁴ which must identify—

⁴ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients from a variety of settings and geographic distribution, that will receive the products and services under this approach;

(B) Its proposed approach to address States' challenges associated with integrating IDEA Part B data within SLDS and IDEA Part C and IDEA Part B preschool special education data within ECIDS and to report high-quality IDEA Part B and IDEA Part C data to the Department and the public, which should, at a minimum, include providing on-site consultants to SEAs and Part C lead agencies to—

(1) Model and document data management and data system integration policies, procedures, processes, and activities within the State;

(2) Support the State's use of an open-source electronic tool and provide technical solutions to meet State-specific data needs;

(3) Develop a sustainability plan for the State to maintain the data management and data system integration work in the future; and

(4) Support the State's cybersecurity plan in collaboration, to the extent appropriate, with the Department's Student Privacy Policy Office and its Privacy Technical Assistance Center;

(5) Develop products and implement services that maximize efficiency. To address this requirement, the applicant must describe—

(i) How the proposed project will use technology to achieve the intended project outcomes;

(ii) With whom the proposed project will collaborate and the intended outcomes of this collaboration; and

(iii) How the proposed project will use non-project resources, such as non-Federal funds and in-kind contributions, to achieve the intended project outcomes; and

(6) Develop a dissemination plan that describes how the applicant will systematically distribute information, products, and services to varied intended audiences, using a variety of dissemination strategies, to promote awareness and use of the Center's products and services.

(c) In the narrative section of the application under “Quality of the project evaluation or other evidence-building,” describe how the project will develop an evaluation plan in consultation with, and to be implemented by, a third-party evaluator.⁵ The evaluation plan must—

⁵ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions must be related to the project's proposed logic model required under paragraph (b)(2)(ii);

(2) Describe how progress in and fidelity of implementation, as well as project outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the Annual Performance Report (APR) and at the end of Year 2; and

(5) Dedicate sufficient funds in each budget year to cover the costs of developing or refining the evaluation plan in consultation with a third-party evaluator, as well as the costs associated with the implementation of the evaluation plan by the third-party evaluator.

(d) Demonstrate, in the narrative section of the application under “Adequacy of resources,” how—

(1) The project will make positive efforts to employ and advance in employment qualified individuals with disabilities;

(2) The applicant and any key partners have adequate resources to carry out the proposed activities; and

(3) The proposed costs are reasonable in relation to the anticipated results and benefits, and funds will be spent in a way that increases their efficiency and cost-effectiveness, including by reducing waste or achieving better outcomes.

(e) Describe, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed key project personnel, consultants, and subcontractors have the qualifications and experience to carry out the proposed activities and achieve the project's intended outcomes; and

(4) The proposed management plan will ensure that the products and services provided are of high quality, relevant, and useful to recipients.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative.

(ii) A three-day project directors' conference in Washington, DC, during each year of the project periods, provided that, if the meeting is conducted virtually, the project must reallocate unused travel funds no later than the end of the third quarter of each budget period;

(iii) Three annual two-day trips to attend Department briefings, Department-sponsored conferences, and other meetings, as requested by OSEP; and

(3) Include, in the budget, a line item for an annual set-aside of five percent of the grant amount to support emerging needs that are consistent with the proposed project's intended outcomes, as those needs are identified in consultation with, and approved by, the OSEP project officer. With approval from the OSEP project officer, the project must reallocate any remaining funds from this annual set-aside no later than the end of the third quarter of each budget period;

(4) Provide an assurance that it will maintain a high-quality website, with an easy-to-navigate design, that meets government or industry-recognized standards for accessibility;

(5) Include, in Appendix A, an assurance to assist OSEP with the transfer of pertinent resources and products and to maintain the continuity of services to States during the transition to a new award at the end of this award period, as appropriate; and

(6) Budget at least 50 percent of the grant award, in years three through five, for providing targeted and intensive TA to States.

Program Authority: 20 U.S.C. 1411(c), 1416(i), 1418(c), 1418(d), 1442, 1482; Further Consolidated Appropriations Act, 2024, Public Law 118-47, Division D, Title III, 138 Stat. 460, 685 (2024).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) 34 CFR 300.702. (e) The NFP.

Note: The regulations in 34 CFR part 79 apply to all applicants except federally recognized Indian Tribes.

Note: The regulations in 34 CFR part 86 apply to institutions of higher education (IHEs) only.

II. Award Information

Type of Award: Cooperative agreement.

Estimated Available Funds: $2,700,000.

Contingent upon the availability of funds and the quality of applications, we may make additional awards in FY 2026 from the list of unfunded applications from this competition.

Maximum Award: We will not make an award exceeding $2,700,000 for a single budget period of 12 months.

Estimated Number of Awards: 1.

Note: The Department is not bound by any estimates in this notice.

Project Period: Up to 60 months.

III. Eligibility Information

1. Eligible Applicants: SEAs; State lead agencies under Part C of the IDEA; LEAs, including public charter schools that are considered LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www.ed.gov/about/ed-offices/ofo#Indirect-Cost-Division.

c. Administrative Cost Limitation: This program does not include any program-specific limitation on administrative expenses. All administrative expenses must be reasonable and necessary and conform to Cost Principles described in 2 CFR part 200 subpart E of the Guidance for Federal Financial Assistance.

3. Subgrantees: Under 34 CFR 75.708(b) and (c), a grantee under this competition may award subgrants—to directly carry out project activities described in its application—to the following types of entities: IHEs, nonprofit organizations suitable to carry out the activities proposed in the application, and other public agencies. The grantee may award subgrants to entities it has identified in an approved application or that it selects through a competition under procedures established by the grantee, consistent with 34 CFR 75.708(b)(2).

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 23, 2024 (89 FR 104528), and available at www.federalregister.gov/documents/2024/12/23/2024-30488/common-instructions-for-applicants-to-department-of-education-discretionary-grant-programs, which contain requirements and information on how to submit an application.

2. Intergovernmental Review: This competition is subject to Executive Order 12372 and the regulations in 34 CFR part 79. Information about Intergovernmental Review of Federal Programs under Executive Order 12372 is in the application package for this competition. Please note that, under 34 CFR 79.8(a), we have shortened the standard 60-day intergovernmental review period in order to make awards by the end of FY 2025.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

The Secretary considers the significance of the proposed project. In determining the significance of the proposed project, the Secretary considers the following factors:

(1) The extent to which the specific nature and magnitude of gaps or challenges are identified and the extent to which these gaps or challenges will be addressed by the services, supports, infrastructure, or opportunities described in the proposed project.

(2) The importance or magnitude of the results or outcomes likely to be attained by the proposed project, especially contributions toward improving teaching practice and student learning and achievement.

(b) Quality of the project design (35 points).

The Secretary considers the quality of the design of the proposed project. In determining the quality of the design of the proposed project, the Secretary considers the following factors:

(1) The extent to which the goals, objectives, and outcomes to be achieved by the proposed project are clearly specified, measurable, and ambitious yet achievable within the project period, and aligned with the purposes of the grant program.

(2) The quality of the logic model or other conceptual framework underlying the proposed project, including how inputs are related to outcomes.

(3) The extent to which the services to be provided by the proposed project reflect up-to-date knowledge and an evidence-based project component.

(4) The extent to which the training or professional development services to be provided by the proposed project are of sufficient quality, intensity, and duration to build recipient and project capacity in ways that lead to improvements in practice among the recipients of those services.

(5) The extent to which the services to be provided by the proposed project involve the use of efficient strategies, including the use of technology, as appropriate, and the leveraging of non-project resources.

(c) Quality of the project evaluation or other evidence-building (20 points).

The Secretary considers the quality of the evaluation or other evidence-building of the proposed project. In determining the quality of the evaluation or other evidence-building, the Secretary considers the following factors:

(1) The extent to which the methods of evaluation or other evidence-building are thorough, feasible, relevant, and appropriate to the goals, objectives, and outcomes of the proposed project.

(2) The extent to which the methods of evaluation or other evidence-building are designed to measure the fidelity of implementation of the project.

(3) The extent to which the methods of evaluation or other evidence-building will provide performance feedback and provide formative, diagnostic, or interim data that is a periodic assessment of progress toward achieving intended outcomes.

(4) The extent to which the methods of evaluation or other evidence-building include the use of objective performance measures that are clearly related to the intended outcomes of the project and will produce quality data that are quantitative and qualitative.

(d) Adequacy of resources (15 points).

The Secretary considers the adequacy of resources for the proposed project. In determining the adequacy of resources for the proposed project, the Secretary considers the following factors:

(1) The qualifications, including relevant training and experience, of project consultants or subcontractors.

(2) The extent to which the evaluator has the qualifications, including the relevant training, experience, and independence, required to conduct an evaluation of the proposed project, including experience conducting evaluations of similar methodology as proposed and with evaluations for the proposed population and setting.

(3) The adequacy of support for the project, including facilities, equipment, supplies, and other resources, from the applicant or the lead applicant organization.

(4) The relevance and demonstrated commitment of each partner in the proposed project to the implementation and success of the project.

(5) The extent to which the budget is adequate to support the proposed project and the costs are reasonable in relation to the objectives, design, and potential significance of the proposed project.

(e) Quality of the management plan (20 points).

The Secretary considers the quality of the management plan for the proposed project. In determining the quality of the management plan for the proposed project, the Secretary considers the following factors:

(1) The feasibility of the management plan to achieve project objectives and goals on time and within budget, including clearly defined responsibilities, timelines, and milestones for accomplishing project tasks.

(2) The extent to which the time commitments of the project director and principal investigator and other key project personnel are appropriate and adequate to meet the objectives of the proposed project.

(3) The extent to which the project director or principal investigator, when hired, has the qualifications required for the project, including formal training or work experience in fields related to the objectives of the project and experience in designing, managing, or implementing similar projects for the target population to be served by the project.

(4) The extent to which the key personnel in the project, when hired, have the qualifications required for the proposed project, including formal training or work experience in fields related to the objectives of the project, and represent or have lived experiences of the target population.

(5) The adequacy of mechanisms for ensuring high-quality and accessible products and services from the proposed project for the target population.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

In the event there are two or more applications with the same final score, and there are insufficient funds to fully support each of these applications, the scores under selection criterion (b) Quality of the project design will be used as a tiebreaker. If the scores remain tied, then the scores under selection criterion (d) Adequacy of resources will be used to break the tie.

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

6. In General: In accordance with the Guidance for Federal Financial Assistance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN), or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established a set of performance measures that are designed to yield information on various aspects of the effectiveness and quality of the Technical Assistance on State Data Collection program. These measures are:

• Program Performance Measure #1: The percentage of TA and dissemination products and services deemed to be of high quality by an independent review panel of experts qualified or individuals with appropriate expertise to review the substantive content of the products and services.

• Program Performance Measure #2: The percentage of TA and dissemination products and services deemed by an independent review panel of qualified experts or members of the target audiences to be of high relevance to educational and early intervention policy or practice.

• Program Performance Measure #3: The percentage of TA and dissemination products and services deemed by an independent review panel of qualified experts or members of the target audiences to be useful in improving educational or early intervention policy or practice.

• Program Performance Measure #4: The cost efficiency of the Technical Assistance on State Data Collection Program includes the percentage of milestones achieved in the current annual performance report period and the percentage of funds spent during the current fiscal year.

The measures apply to projects funded under this competition, and grantees are required to submit data on these measures as directed by OSEP.

Grantees will be required to report information on their project's performance in annual and final performance reports to the Department (34 CFR 75.590).

The Department will also closely monitor the extent to which the products and services provided by the project meet needs identified by stakeholders and may require the project to report on such alignment in its annual and final performance reports.

6. Continuation Awards: In making a continuation award under 34 CFR 75.253, the Secretary considers, among other things: whether a grantee has made substantial progress in achieving the goals and objectives of the project; whether the grantee has expended funds in a manner that is consistent with its approved application and budget; if the Secretary has established performance measurement requirements, whether the grantee has made substantial progress in achieving the performance targets in the grantee's approved application; and whether the continuation of the project is in the best interest of the Federal Government.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Diana Diaz,
Deputy Assistant Secretary and Acting Assistant Secretary for Special Education and Rehabilitative Services.

[FR Doc. 2025-11610 Filed 6-24-25; 8:45 am]

BILLING CODE 4000-01-P